NUCLEAR REGULATORY COMMISSION

[Docket Nos. 50-295 and 50-304; NRC-2015-0082]

Zion Solutions, LLC, Zion Nuclear Power Station, Units 1 and 2, License Termination Plan

AGENCY: Nuclear Regulatory Commission.

ACTION: Request for comment; reopening of comment period.

SUMMARY: On April 6, 2015, the U.S. Nuclear Regulatory Commission (NRC) solicited comments on the License Termination Plan (LTP) for the Zion Nuclear Power Station (ZNPS), Units 1 and 2. The public comment period closed on May 26, 2015. The NRC has decided to reopen the public comment period to allow more time for members of the public to develop and submit their comments.

DATES: The comment period for the document published on April 6, 2015 (80 FR 18443) has been reopened. Comments should be filed no later than August 17, 2015. Comments received after this date will be considered, if it is practical to do so, but the Commission is able to ensure consideration only for comments received on or before this date.

ADDRESSES: You may submit comments by any of the following methods (unless this document describes a different method for submitting comments on a specific subject):

• Federal Rulemaking Web site: Go to http://www.regulations.gov and search for Docket ID NRC-2015-0082. Address questions about NRC dockets to Carol Gallagher; telephone: 301-415-3463; email: Carol.Gallagher@nrc.gov. For technical questions, contact the individual listed in the FOR FURTHER INFORMATION CONTACT section of this document.

• Mail comments to: Cindy Bladey, Office of Administration, Mail Stop: O12-H08, U.S. Nuclear Regulatory Commission, Washington, DC 20555-0001.

For additional direction on obtaining information and submitting comments, see “Obtaining Information and Submitting Comments” in the SUPPLEMENTARY INFORMATION section of this document.

FOR FURTHER INFORMATION CONTACT: John Hickman, Office of Nuclear Material Safety and Safeguards, U.S. Nuclear Regulatory Commission, Washington, DC 20555-0001, telephone: 301-415-3017, email: John.hickman@nrc.gov.

SUPPLEMENTARY INFORMATION:

I. Obtaining Information and Submitting Comments

A. Obtaining Information

Please refer to Docket ID NRC-2015-0082 when contacting the NRC about the availability of information for this action. You may obtain publicly-available information related to this action by any of the following methods:

• Federal Rulemaking Web site: Go to http://www.regulations.gov and search for Docket ID NRC-2015-0082

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section

• NRC's PDR: You may examine and purchase copies of public documents at the NRC's PDR, Room O1-F21, One White Flint North, 11555 Rockville Pike, Rockville, Maryland 20852.

B. Submitting Comments

Please include Docket ID NRC-2015-0082 in your comment submission.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

Zion Solution (ZS), LLC, is the holder of Facility Operating License Nos. DPR-39 and DPR-48. The licenses provide, among other things, that ZS is subject to all rules, regulations, and orders of the NRC now or hereafter in effect. The ZNPS facility consists of two pressurized-water reactors located in Lake County, Illinois.

In September 1996, ZNPS, Unit 2 was permanently shut-down after approximately 23 years of operation. In February 1997, ZNPS, Unit 1 was permanently shut-down after approximately 24 years of operation. In early 1998, in accordance with 10 CFR 50.82(a)(1)(i) and (ii) of Title 10 of the Code of Federal Regulations (10 CFR 50), Exelon Generating Company LLC (Exelon) notified the NRC of the permanent cessation of operations at the ZNPS and the permanent removal of all spent fuel assemblies from the reactor vessels to the spent fuel pool (ADAMS Legacy Accession Nos. 9902200407 and 9803110251). On February 14, 2000, Exelon submitted a Post-Shutdown Decommissioning Activities Report (PSDAR) for the Zion units, pursuant to 10 CFR 50.82(a)(4)(i) (ADAMS Accession No. ML003685889). The PSDAR was updated on March 18, 2008 (ADAMS Accession No. ML080840398). On September 1, 2010, the NRC transferred Facility Operating License Numbers DPR-39 and DPR-48 from Exelon to ZS (ADAMS Accession No. ML102290437). The ZS acquired ZNPS to conduct the decommissioning of the facility and then return the decommissioned site back to Exelon. The spent fuel has been moved from the spent fuel pool to the Independent Spent Fuel Storage Installation. Decommissioning of ZNPS is scheduled to be completed in 2018.

By letter dated December 19, 2014 (ADAMS Accession No. ML15005A336), and supplemented on February 26, 2015 (ADAMS Accession No. ML15061A281), ZS submitted the LTP for ZNPS in accordance with § 50.82(a)(9). The LTP addresses site characterization to ensure that final radiation surveys (FRS) cover all areas where contamination existed, remains, or has the potential to exist or remain; identification of remaining dismantlement activities; plans for site remediation; a description of the FRS plan to confirm that ZNPS will meet the release criteria in 10 CFR part 20, subpart E; dose-modeling scenarios that ensure compliance with the radiological criteria for license termination; an estimate of the remaining site-specific decommissioning costs; and a supplement to the Defueled Safety Analysis Report and the Environmental Report describing any new information or significant environmental change associated with proposed license termination activities.

A public meeting was held on April 28, 2015, in Zion, IL to discuss the LTP and solicit public comments. A transcript of that meeting is available (ADAMS Accession No. ML15148A377). Based on the interest expressed at that meeting and in subsequent communications with the NRC staff, the NRC has decided to reopen the comment period.

On April 6, 2015, the NRC solicited comments on the License Termination Plan for the Zion Nuclear Power Station, Units 1 and 2. The public comment period closed on May 26, 2015. The NRC has decided to reopen the public comment period on this document until August 17, 2015.

Dated at Rockville, Maryland, this 26th day of June, 2015.
For the Nuclear Regulatory Commission.
Zahira Cruz,
Acting Chief, Reactor Decommissioning Branch, Division of Decommissioning, Uranium Recovery, and Waste Programs, Office of Nuclear Material Safety and Safeguards.

[FR Doc. 2015-17387 Filed 7-15-15; 8:45 am]

BILLING CODE 7590-01-P